DEPARTMENT OF COMMERCE

Foreign-Trade Zones Board

[Docket 24-2008]

Foreign-Trade Zone 161—Sedgwick County, KS; Amendment to Application for Subzone Status; Hawker Beechcraft Corporation (Aircraft Manufacturing), Wichita and Salina, KS

A request has been submitted to the Foreign-Trade Zones Board (the Board) by Hawker Beechcraft Corporation (HBC) to amend the company's application requesting special-purpose subzone status for the company's aircraft manufacturing facilities located in Wichita and Salina, Kansas.

HBC is now requesting to correct the HTSUS number for the finished product as described in the original Federal Register notice (Docket 24-2008, 73 FR 21903-21904, 4/23/08) to accurately reflect the category of aircraft that are produced at the company's facilities. The correct HTSUS number should be 8802.30 (airplanes and other aircraft of an unladen weight exceeding 2,000 kg but not exceeding 15,000 kg). There is no change to the duty rate (duty-free) and the finished products will be manufactured using the same imported parts and components (duty-free to 15 percent) as described in the original Federal Register notice.

Public comment is invited from interested parties. Submissions (original and 3 copies) shall be addressed to the Board's Executive Secretary at the address listed below. The closing period for their receipt is October 27, 2008. Rebuttal comments in response to material submitted during the foregoing period may be submitted during the subsequent 15-day period (to November 10, 2008).

A copy of the application amendment will be available at each of the following addresses: U.S. Department of Commerce Export Assistance Center, 150 North Main Street, Suite 200, Wichita, Kansas; and, Office of the Executive Secretary, Foreign-Trade Zones Board, Room 2111, U.S. Department of Commerce, 1401 Constitution Avenue, NW., Washington, DC 20230. For further information contact Christopher Kemp at christopher_kemp@ita.doc.gov or (202) 482-0862.

Dated: September 19, 2008.
Andrew McGilvray,
Executive Secretary.

[FR Doc. E8-22716 Filed 9-25-08; 8:45 am]

BILLING CODE 3510-DS-P